NATIONAL AERONAUTICS AND SPACE ADMINISTRATION

[Notice 01-100]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing on a nonexclusive basis.

DATES: August 30, 2001.

FOR FURTHER INFORMATION CONTACT: John Kusmiss, Patent Counsel, NASA Management Office—JPL, 4800 Oak Grove Drive, Mail Stop 180801, Pasadena, CA 91109; telephone (818) 354-7770.

U.S. Patent No. 5,850,538: Priority Queues for Computer Simulations;

U.S. Patent No. 5,794,005: Synchronous Parallel Emulation and Discrete Event Simulation System With Self-Contained Simulation Objects and Active Event Objects;

U.S. Patent No. 5,781,762: Parallel Proximity Detection for Computer Simulations;

U.S. Patent No. 5,652,871: Parallel Proximity Detection for Computer Simulation;

NASA Case No. NPO-18414-4-CU: Synchronous Parallel System for Emulation and Discrete Event Simulation.

Dated: August 22, 2001.
Edward A. Frankle,
General Counsel.

[FR Doc. 01-21868 Filed 8-29-01; 8:45 am]

BILLING CODE 7510-01-P